DEPARTMENT OF THE INTERIOR

Bureau of Land Management

[NM-030-1610-DO]

Notice of Intent To Prepare a Resource Management Plan (RMP) Revision, a Resource Management Plan Amendment (RMPA), and Associated Environmental Impact Statement (EIS); and Notice of Public Scoping Meetings.

AGENCY: Bureau of Land Management (BLM), Interior.

ACTION: Notice of Intent to Revise the White Sands RMP, New Mexico and Notice of Intent to Amend the Mimbres RMP, New Mexico, and Notice of Public Scoping Meetings.

SUMMARY: The BLM proposes to revise the White Sands RMP and to amend the Mimbres RMP. The revision and amendment and associated environmental analysis will update planning level decisions for public lands in Sierra, Otero, and Dona Ana Counties, which are managed by the Las Cruces Field Office (LCFO), New Mexico. The proposed RMP revision and amendment are intended to address issues that have developed since the previous RMPs were prepared in 1986 and 1994 respectively. This notice initiates the public scoping process to identify specific issues related to the proposed revision and amendment and the NEPA process.

DATES: The public scoping period for the proposal will commence with publication of this Notice. Comments about the proposal must be submitted on or before 60 calendar days from the date the Environmental Protection Agency (EPA) publishes its NOI in the Federal Register. The BLM can best utilize your participation, comments and resource information submissions during the 60 day comment period and scheduled public meetings. Public meetings will be held in Truth or Consequences, Alamogordo, and Las Cruces, New Mexico to ensure the opportunity for local community participation and input. All public meetings will be announced through the local news media and will be posted on the New Mexico BLM Web site (http://www.nm.blm.gov) at least 15 days in advance.

ADDRESSES: Existing planning documents and information are available at the Las Cruces Field Office, 1800 Marquess St., Las Cruces, New Mexico 88005. Written comments regarding the proposed plan revision and amendment should be sent to the BLM at the above address, Attention: RMP Team Leader. Written comments may also be faxed to 505-525-4412 or e-mailed to LCFO_RMP@nm.blm.gov. Comments that are faxed or e-mailed must include “Scoping Comments for LCFO-RMP” in the subject line. Public comments, including names and street addresses of respondents, will be available for public review at the LCFO during regular business hours 7:30 a.m. to 4:30 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: Tom Phillips, RMP Team Leader, at (505) 525-4377. To have your name added to our mailing list, contact Rena Gutierrez at (505) 525-4338 or via e-mail at: Rena_Gutierrez@nm.blm.gov.

SUPPLEMENTARY INFORMATION: The area encompassed by this planning effort includes Sierra, Otero, and Dona Ana Counties, New Mexico. Public lands in Sierra and Otero County are administered under the White Sands RMP, while public lands in Dona Ana County are administered under the Mimbres RMP. This entire Planning Area is about 6.65 million acres with approximately 2.88 million surface acres of public land and 5.01 million acres of federal minerals. BLM managed lands comprise about 43 percent of the three-county area.

The planning process will comply with the Federal Land Policy and Management Act of 1976 (FLPMA), the National Environmental Policy Act of 1969 (NEPA) and associated Federal regulations. The BLM will work collaboratively with interested parties to identify the management decisions that are best suited to local and regional needs as well as national needs and concerns.

There are several preliminary issues that BLM is seeking public input on through scoping. These issues were identified from evaluation of decisions in the current RMPs that BLM believes require updating and include: recreation; off highway vehicle management; threatened and endangered species management; renewable energy development potential (solar, wind, etc.); Areas of Critical Environmental Concern (ACECs); naturalness, solitude, and primitive recreation; special status species habitat management; access; travel management; rights-of-way; and land tenure (acquisition or disposal). The preliminary planning criteria, which have been identified to guide the development of the RMP Revision-Amendment/EIS, are:

A. Actions must comply with laws, regulations, executive orders, and BLM Manuals (i.e., supplemental program guidance).

B. Actions must be reasonable and achievable and allow for flexibility where appropriate (i.e., adaptive management).

C. The Economic Profile System (EPS) developed by the Sonoran Institute will be used as a community involvement technique and a source of demographic and economic data for the planning process.

D. Actions will be considered through an interdisciplinary approach.

E. The White Sands RMP Revision and the Mimbres RMP Amendment planning team will work cooperatively with county and municipal governments, other Federal, State and local agencies, and interested groups and individuals. Collaborative public involvement and participation will be emphasized throughout this process.

F. The revision and amendment will establish the guidance upon which the LCFO will manage public lands within the three counties.

G. The planning process will include an EIS that complies with NEPA standards.

H. The revision and amendment will provide for the maintenance and enhancement of habitats for special status species within the Planning Area, while allowing the public the opportunity for access to public lands in a productive and meaningful way.

I. The revision and amendment will recognize valid existing rights related to the use of public lands. The revision and amendment will define the process that the LCFO will use to address applications or notices filed after the completion of the revision and amendment on existing land use authorizations.

J. The RMP revision and amendment process will involve Native American tribal governments and will provide strategies for protection of cultural resources on public lands.

K. Decisions in the revision and amendment will strive to be compatible with existing plans and policies of adjacent local, State, and Federal governments and agencies, as long as the decisions are in conformance with BLM management policies.

Public participation will be encouraged through the three public meetings described above. Early participation is encouraged. In addition to the public meetings, opportunities for public participation will be available during the development of alternatives and upon publication of the Draft EIS. Notification of the publications and updates will be sent to various State and local government agencies, interest groups, Native American Tribes, permittees, and other interested public, as well as to the local news media. Federal, State and county governments have been asked to participate in the process and will be offered an opportunity to be cooperating agencies to assure their active participation.

Dated: November 5, 2004.
Linda S. C. Rundell,
New Mexico State Director.

[FR Doc. 05-1567 Filed 1-27-05; 8:45 am]

BILLING CODE 4310-GG-P